DEPARTMENT OF AGRICULTURE

Natural Resources Conservation Service

[Docket No. NRCS-2016-0012]

Notice of Availability of Proposed Revisions to Section I of the Iowa, Minnesota, North Dakota, and South Dakota State Technical Guides for Public Review and Comment

AGENCY: Natural Resources Conservation Service (NRCS).

ACTION: Notice of availability of proposed revisions to Section I of the Iowa, Minnesota, North Dakota, and South Dakota State Technical Guides for public review and comment.

SUMMARY: Notice is hereby given of the intention of NRCS to issue revisions to the State Offsite Methods (SOSM) for use in Iowa, North Dakota, Minnesota, and South Dakota. The SOSM is used in completing wetland determinations for USDA program eligibility purposes. The existing SOSM's have been in use since July 2015, NRCS is seeking comments only on the proposed revisions to these documents. The revisions are needed to clarify procedures and improve consistency in application.

NRCS State Conservationists in each of these States will incorporate their revised SOSM into Section I of their respective electronic Field Office Technical Guide (FOTG). As identified in the National Food Security Act Manual these revised methods may be used for completion of wetland determinations. Section 343 of the Federal Agriculture Improvement and Reform Act of 1996 requires NRCS to make available for public review and comment all proposed revisions to methods and procedures used to carry out the Highly Erodible Land and wetland compliance provisions of the 1985 Food Security Act (as amended).

DATES:

Effective Date: This is effective June 22, 2017.

Comment Date: Submit comments on or before June 22, 2017.

Final versions of these revised State Offsite Methods will be adopted after the close of the 30-day period and after consideration of all comments.

ADDRESSES: You may submit comments, identified by Docket Number NRCS-2016-0012, using any of the following methods:

• Federal eRulemaking Portal: http://www.regulations.gov. Follow the instructions for submitting comments.

• Mail or hand-delivery: Public Comments Processing, Attention: Regulatory and Agency Policy Team, Strategic Planning and Accountability, Natural Resources Conservation Service, 5601 Sunnyside Avenue, Building 1-1112D, Beltsville, Maryland 20705.

• Email: Verna.Howell@wdc.usda.gov. Include Docket Number NRCS-2016-0012 or “comment on proposed revisions to Section I” in the subject line of the email message.

NRCS will post all comments on http://www.regulations.gov. In general, personal information provided with comments will be posted. If your comment includes your address, phone number, email, or other personal identifying information, your comments, including personal information, may be available to the public. You may ask in your comment that your personal identifying information be withheld from public view, but this cannot be guaranteed.

FOR FURTHER INFORMATION CONTACT: The appropriate NRCS State Conservationist as listed below;

Kurt Simon, State Conservationist, Natural Resources Conservation Service, 210 Walnut Street, Room 693, Des Moines, Iowa 50309-2180, (515) 284-4769, Kurt.simon@ia.usda.gov, NRCS Iowa Web site: http://www.nrcs.usda.gov/wps/portal/nrcs/site/ia/home/.

Mary Podoll, State Conservationist, Natural Resources Conservation Service, 220 E. Rosser Ave., Room 278, Bismarck, North Dakota 58502-1458, (701) 530-2003, Mary.podoll@nd.usda.gov, NRCS North Dakota Web site http://www.nrcs.usda.gov/wps/portal/nrcs/site/nd/home/.

Cathee Pullman, State Conservationist, Natural Resources Conservation Service, 375 Jackson Street, Suite 600, St. Paul, Minnesota 55101-1854, (651) 602-7854, Cathee.pullman@mn.usda.gov, NRCS Minnesota Web site: http://www.nrcs.usda.gov/wps/portal/nrcs/site/mn/home/.

Jeff Zimprich, State Conservationist, Natural Resources Conservation Service, Federal Building, Room 203, 200 Fourth Street SW., Huron, South Dakota 57350-2475, (605) 352-1200, Jeff.zimprich@sd.usda.gov, NRCS South Dakota Web site: http://www.nrcs.usda.gov/wps/portal/nrcs/site/sd/home/.

Electronic copies of the proposed revised SOSMs are available in the docket information section of this notice. There are separate SOSM documents for each state. In general, all documents have similar language with the exception that the South Dakota and North Dakota SOSM contains procedures for playa wetlands. Playa wetlands do not exist in either Minnesota or Iowa. NRCS is seeking comments on the revisions to these documents. Each document's revisions (deletions, additions, and strike-throughs) can be viewed in a “track changes” format. Requests for paper versions or inquiries may be directed to Paul Flynn, Wetland Project Manager, U.S. Department of Agriculture, Natural Resources Conservation Service, 375 Jackson Street, Suite 600, St. Paul, Minnesota 55101.

SUPPLEMENTARY INFORMATION: To fully understand the proposed revisions, individuals are encouraged to compare these changes with each State's current version as shown on each State's Web site. To aid in this comparison, following are highlights of the proposed revisions to each State's SOSM by section:

2.1 Develop a Base Map

• Clarifies that sampling unit boundaries as viewed on aerial imagery can be adjusted using other references including Light Detection and Ranging data.

• Reinforces that for sites without pre-1985 manipulation sampling units can be identified using references other than aerial imagery.

• Provides clarification that all sampling units recorded on the Base Map reflect consideration of Normal Environmental Conditions and sites with pre-1985 drainage also accurately reflect the condition of the drainage.

• Provides direction that drainage manipulations and their approximate year of installation will be identified on the base map or another reference.

2.2.1 and 2.3.1 Hydrophytic Vegetation

• Clarifies how the Official Soil Description (OSD) section titled “Use and Vegetation” can be used in verifying hydrophytic vegetation.

2.2.3, 2.3.3, and 2.4.2 Wetland Hydrology

• Clarifies that wetland hydrology for sites without pre-1985 drainage is determined to be present when wetness signatures are found on 50 percent or more of imagery reviewed.

• Explains that the wetland hydrology review for sites without pre-1985 drainage consists of all available normal years starting with the 2014 image year and going back to 1980.

• Clarifies how wetness signatures are defined and annotated on the data sheet.

• Allows that when a normal year image is of poor quality such that wetness signatures are not discernable, those image years can be excluded from the imagery review.

• Defines the term “all available” when used with aerial images or photography.

2.4.3 Wetland Hydrology (With Pre-1985 Drainage)

• Explains how the agency expert determines the best drainage condition of the sampling unit.

• Explains how, after determining the best drained condition, the agency expert uses aerial imagery to determine when wetland hydrology is positive or negative.

3.1 Verification of Pre-1985 Cropping History

• Allows verification based on person provided records that document cropping history.

3.2 Verification of Pre-December 23, 1985, Manipulation(s)

• Adds additional references that can be used to make this determination.

3.3 Verification of Post-1985 Potential Conversion

• Provides that verification will include review of the most recent year of aerial photography available.

3.5.1 Verification of Presence of Woody Vegetation as of December 23, 1985

• Adds this verification as an independent determination.

3.6 Determination of the Required Conditions for the Following WC Labels

• Deletes this entire Section including Table 1. Guidance in the National Food Security Act Manual will be followed to apply USDA wetland labels.

Dated: May 22, 2017.
Kevin Wickey
Regional Conservationist, Central Region, Natural Resources Conservation Service.

[FR Doc. 2017-13061 Filed 6-21-17; 8:45 am]

BILLING CODE 3410-16-P